DEPARTMENT OF COMMERCE

National Oceanic and Atmospheric Administration

RIN 0648-XG183

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Mackerel, Squid, and Butterfish Advisory Panel and Committee will hold a public meeting.

DATES: The meeting will be held on Tuesday, May 15, 2018, from 10 a.m. to 4 p.m. See SUPPLEMENTARY INFORMATION for agenda details.

ADDRESSES: The meeting will be held at the Double Tree by Hilton Baltimore—BWI Airport, 890 Elkridge Landing Road, Linthicum, MD 21090; telephone: (410) 859-8400.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Mackerel, Squid, and Butterfish Advisory Panel and Committee will meet on Tuesday, May 15, 2018 in Linthicum, MD. The purpose of this meeting is to review development of the chub mackerel amendment and to develop recommendations to the Mid-Atlantic Fishery Management Council on management alternatives and other aspects of the amendment. The amendment will consider adding Atlantic chub mackerel (Scomber colias) to the Atlantic Mackerel, Squid, and Butterfish Fishery Management Plan. The amendment will consider potential catch limits, accountability measures, and other conservation and management measures required for stocks “in the fishery.” A detailed agenda and background documents will be made available on the Council's website (www.mafmc.org) prior to the meeting.

Special Accommodations

The meeting is physically accessible to people with disabilities. Requests for sign language interpretation or other auxiliary aid should be directed to M. Jan Saunders, (302) 526-5251, at least 5 days prior to the meeting date.

Dated: April 19, 2018.
Tracey L. Thompson,
Acting Deputy Director, Office of Sustainable Fisheries, National Marine Fisheries Service.

[FR Doc. 2018-08498 Filed 4-23-18; 8:45 am]

BILLING CODE 3510-22-P